DEPARTMENT OF HEALTH AND HUMAN SERVICES

Health Resources and Services Administration

National Vaccine Injury Compensation Program; List of Petitions Received

AGENCY: Health Resources and Services Administration, HHS.

ACTION: Notice.

SUMMARY: The Health Resources and Services Administration (HRSA) is publishing this notice of petitions received under the National Vaccine Injury Compensation Program (“the Program”), as required by section 2112(b)(2) of the Public Health Service (PHS) Act, as amended. While the Secretary of Health and Human Services is named as the respondent in all proceedings brought by the filing of petitions for compensation under the Program, the United States Court of Federal Claims is charged by statute with responsibility for considering and acting upon the petitions.

FOR FURTHER INFORMATION CONTACT: For information about requirements for filing petitions, and the Program in general, contact the Clerk, United States Court of Federal Claims, 717 Madison Place, NW., Washington, DC 20005, (202) 357-6400. For information on HRSA's role in the Program, contact the Director, National Vaccine Injury Compensation Program, 5600 Fishers Lane, Room 11C-26, Rockville, MD 20857; (301) 443-6593.

SUPPLEMENTARY INFORMATION: The Program provides a system of no-fault compensation for certain individuals who have been injured by specified childhood vaccines. Subtitle 2 of Title XXI of the PHS Act, 42 U.S.C. 300aa-10 et seq., provides that those seeking compensation are to file a petition with the U.S. Court of Federal Claims and to serve a copy of the petition on the Secretary of Health and Human Services, who is named as the respondent in each proceeding. The Secretary has delegated his responsibility under the Program to HRSA. The Court is directed by statute to appoint special masters who take evidence, conduct hearings as appropriate, and make initial decisions as to eligibility for, and amount of, compensation.

A petition may be filed with respect to injuries, disabilities, illnesses, conditions, and deaths resulting from vaccines described in the Vaccine Injury Table (the Table) set forth at section 2114 of the PHS Act or as set forth at 42 CFR 100.3, as applicable. This Table lists for each covered childhood vaccine the conditions which may lead to compensation and, for each condition, the time period for occurrence of the first symptom or manifestation of onset or of significant aggravation after vaccine administration. Compensation may also be awarded for conditions not listed in the Table and for conditions that are manifested outside the time periods specified in the Table, but only if the petitioner shows that the condition was caused by one of the listed vaccines.

Section 2112(b)(2) of the PHS Act, 42 U.S.C. 300aa-12(b)(2), requires that the Secretary publish in the Federal Register a notice of each petition filed. Set forth below is a list of petitions received by HRSA on January 1, 2006, through March 31, 2006.

Section 2112(b)(2) also provides that the special master “shall afford all interested persons an opportunity to submit relevant, written information” relating to the following:

1. The existence of evidence “that there is not a preponderance of the evidence that the illness, disability, injury, condition, or death described in the petition is due to factors unrelated to the administration of the vaccine described in the petition,” and

2. Any allegation in a petition that the petitioner either:

(a) “Sustained, or had significantly aggravated, any illness, disability, injury, or condition not set forth in the Table but which was caused by” one of the vaccines referred to in the Table, or

(b) “Sustained, or had significantly aggravated, any illness, disability, injury, or condition set forth in the Vaccine Injury Table the first symptom or manifestation of the onset or significant aggravation of which did not occur within the time period set forth in the Table but which was caused by a vaccine” referred to in the Table.

This notice will also serve as the special master's invitation to all interested persons to submit written information relevant to the issues described above in the case of the petitions listed below. Any person choosing to do so should file an original and three (3) copies of the information with the Clerk of the U.S. Court of Federal Claims at the address listed above (under the heading For Further Information Contact), with a copy to HRSA addressed to Director, Division of Vaccine Injury Compensation Program, Healthcare Systems Bureau, 5600 Fishers Lane, Room 11C-26, Rockville, MD 20857. The Court's caption (Petitioner's Name v. Secretary of Health and Human Services) and the docket number assigned to the petition should be used as the caption for the written submission. Chapter 35 of title 44, United States Code, related to paperwork reduction, does not apply to information required for purposes of carrying out the Program.

List of Petitions

1. Tara Turner on behalf of Joseph Turner, Trinity, North Carolina, Court of Federal Claims Number 06-0001V

2. Elizabeth Babcock, San Quentin, California, Court of Federal Claims Number 06-0003V

3. Sharlene Smith on behalf of Jacob Smith, Norton, Massachusetts, Court of Federal Claims Number 06-0012V

4. Antoinette Gumm on behalf of Alexander Gumm, Gardnerville, Nevada, Court of Federal Claims Number 06-0023V

5. Suzanne and James Cuddy on behalf of Patrick Cuddy, Cicero, New York, Court of Federal Claims Number 06-0032V

6. Lois Wright, Warren, Michigan Court of Federal Claims Number 06-0033V

7. Roxie Hobart on behalf of Mabel F. Hobart, Deceased, Molalla, Oregon, Court of Federal Claims Number 06-0038V

8. Brian Sprinkle on behalf of Jake Sprinkle, Boston, Massachusetts, Court of Federal Claims Number 06-0042V

9. Eva Wiessmann on behalf of Isabelle Wiessmann, Boston, Massachusetts, Court of Federal Claims Number 06-0043V

10. Selvam Ganesan and Bhavani Balakrishana on behalf of Shyam Selvam, Boston, Massachusetts, Court of Federal Claims Number 06-0044V

11. Stacey Gray on behalf of Hugh Gray, Boston, Massachusetts, Court of Federal Claims Number 06-0045V

12. Joanna and Ronald Berkowitz on behalf of Sophia Berkowitz, White Plains, New York, Court of Federal Claims Number 06-0048V

13. Babak and Nausheen Alvaynejad on behalf of Shariar Alvaynejad, La Mesa, California, Court of Federal Claims Number 06-0058V

14. Mabel Annette Hughes and Darryl McDonal on behalf of Jamielee Hughes McDonal, Lexington, Mississippi, Court of Federal Claims Number 06-0059V

15. Gabriela and Byron Nolen on behalf of Nicholas Nolen, Flat Rock, Michigan, Court of Federal Claims Number 06-0060V

16. Robert Greve on behalf of Robert Gabriel Greve, Oklahoma City, Oklahoma, Court of Federal Claims Number 06-0062V

17. Catherine and John Miller on behalf of Jonathon Franklin Miller, Cincinnati, Ohio, Court of Federal Claims Number 06-0063V

18. Helen Cho, New York, New York, Court of Federal Claims Number 06-0066V

19. Diane Nolte, Biloxi, Mississippi, Court of Federal Claims Number 06-0067V

20. Victor Osemobor, Riverwoods, Illinois, Court of Federal Claims Number 06-0069V

21. Patricia Cupples, Clinton Township, Michigan, Court of Federal Claims Number 06-0070V

22. Connie and D. Glen Beals on behalf of Chase Beals, Somers Point, New Jersey, Court of Federal Claims Number 06-0071V

23. Pesi and Nyree Silva on behalf of Tava'Esina Silva, Honolulu, Hawaii, Court of Federal Claims Number 06-0076V

24. Kendria and Kinjie Sutton on behalf of Kinjie Sutton, Jr., Mt. Morris, Michigan, Court of Federal Claims Number 06-0080V

25. Antonio Vanriel, Ft. Meade, Maryland, Court of Federal Claims Number 06-0083V

26. Behzad Rezaee, Norcross, Georgia, Court of Federal Claims Number 06-0085V

27. Cathy Anthony on behalf of Noah Anthony, Somers Point, New Jersey, Court of Federal Claims Number 06-0091V

28. Nancy Alspaugh and H. Read Jackson on behalf of Wyatt Read Jackson, Somers Point, New Jersey, Court of Federal Claims Number 06-0098V

29. Barbara McGreal on behalf of Daniel Rutledge, Tampa, Florida, Court of Federal Claims Number 06-0100V

30. Pamela Kattouf on behalf of Justin Kattouf, Maplewood, New Jersey, Court of Federal Claims Number 06-0102V

31. Eric Backer on behalf of Grace Backer, St. Louis, Missouri, Court of Federal Claims Number 06-0104V

32. Luna and Stuart Paul on behalf of Daniel Paul, Northbrook, Illinois, Court of Federal Claims Number 06-0106V

33. Nicole Carey on behalf of Halle Carey, Chesterland, Ohio, Court of Federal Claims Number 06-0117V

34. Michael Hudson, Laconia, New Hampshire, Court of Federal Claims Number 06-0118V

35. Todd Lee Saint, Kansas City, Kansas, Court of Federal Claims Number 06-0119V

36. Erin and Benjamin Zeller on behalf of Benjamin Zeller, Pompano Beach, Florida, Court of Federal Claims Number 06-0120V

37. Dolores Thompson, Port Charles, Florida, Court of Federal Claims Number 06-0128V

38. Genevieve McGhee, Houston, Missouri, Court of Federal Claims Number 06-0130V

39. Renee and Mark Saville on behalf of Mathew Saville, Boston, Massachusetts, Court of Federal Claims Number 06-0131V

40. Re-Ann Dinino on behalf of Anthony Dinino, Boston, Massachusetts, Court of Federal Claims Number 06-0132V

41. Thomas Lincoln on behalf of Alexander Lincoln, Boston, Massachusetts, Court of Federal Claims Number 06-0133V

42. Elizabeth and William Anthony Gore on behalf of Mason Gore, Boston, Massachusetts, Court of Federal Claims Number 06-0134V

43. Nicholas Salvi on behalf of Francesco Salvi, Boston, Massachusetts, Court of Federal Claims Number 06-0135V

44. Lara and Jarrett Johnson on behalf of Kaden Nelson Johnson, Kansas City, Missouri, Court of Federal Claims Number 06-0140V

45. Elizabeth Fields on behalf of Bryan Fields, Boston, Massachusetts, Court of Federal Claims Number 06-0142V

46. Tangela Hairston-Reeves on behalf of Joshua Hairston, Deceased, Boston, Massachusetts, Court of Federal Claims Number 06-0143V

47. Jenna and David Shook on behalf of Trent Michael Shook, Ringgold, Virginia, Court of Federal Claims Number 06-0145V

48. Sandra and Justin Meyer on behalf of Justin Meyer, Port Arthur, Texas, Court of Federal Claims Number 06-0148V

49. Holly and Joshua Winstead on behalf of Jeremy Winstead, Athens, Georgia, Court of Federal Claims Number 06-0159V

50. Randi and Michael Bryant on behalf of Kyle Bryant, Baldwinsville, New York, Court of Federal Claims Number 06-0162V

51. Tracie and Brad Childress on behalf of Nathan Childress, Sparkill, New York, Court of Federal Claims Number 06-0163V

52. Linda and Daniel Moffitt on behalf of Robert Moffitt, Orangeburg, New York, Court of Federal Claims Number 06-0164V

53. Svitlana Budzak-Jones and Laird Jones on behalf of William Oleksandr Jones, State College, Pennsylvania, Court of Federal Claims Number 06-0165V

54. Suanne and Bradley Knutson on behalf of Jack Bradley Knutson, Sioux Falls, South Dakota, Court of Federal Claims Number 06-0166V

55. Debra Ann Anderson, Sioux Falls, South Dakota, Court of Federal Claims Number 06-0168V

56. Anita Reino on behalf of Angela Reino, Thonotosassa, Florida, Court of Federal Claims Number 06-0170V

57. Meghan Bramlage on behalf of Mitchell Bramlage, Boston, Massachusetts, Court of Federal Claims Number 06-0171V

58. Jolee Carney on behalf of Jordan Custer, Deceased, Ellsworth, Washington, Court of Federal Claims Number 06-0187V

59. Sarah and Christopher Hoiberg on behalf of Caitlyn Joy Hoiberg, Jacksonville, Florida, Court of Federal Claims Number 06-0188V

60. Tamar Feld, Englewood, New Jersey, Court of Federal Claims Number 06-0190V

61. Louis Tosches, II on behalf of Louis Tosches, III, Towson, Maryland, Court of Federal Claims Number 06-0192V

62. Jessica Kuttner on behalf of Calvin Kuttner, Traverse City, Michigan, Court of Federal Claims Number 06-0195V

63. Stephanie Coleman on behalf of Lincoln Coleman, Boston, Massachusetts, Court of Federal Claims Number 06-0197V

64. James Robert Dickman on behalf of Lindsay Kathleen Dickman, Deceased, New York, New York, Court of Federal Claims Number 06-0199V

65. Roberta and Ronald Moore on behalf of Daniel Moore, Tampa, Florida, Court of Federal Claims Number 06-0200V

66. Patricia and Vincent Miller on behalf of John Miller, West Orange, New Jersey, Court of Federal Claims Number 06-0201V

67. Linda and Charles Veneman on behalf of Linda Veneman, Henderson, Nevada, Court of Federal Claims Number 06-0203V

68. Linda and Charles Veneman on behalf of Linda Veneman, Henderson, Nevada, Court of Federal Claims Number 06-0204V

69. Naomi and Emanuel Goldman on behalf of Tamara June Goldman, Deceased, West Orange, New Jersey, Court of Federal Claims Number 06-0206V

70. Bethany and Randall Loudenslager on behalf of Zachary Loudenslager, Strongsville, Ohio, Court of Federal Claims Number 06-0207V

71. Lee and William Hinton on behalf of William S. Hinton, Jr., Mountain Brook, Alabama, Court of Federal Claims Number 06-0208V

72. Lynn and Shawn Sevey on behalf of Shalyn Sevey, Folsom, California, Court of Federal Claims Number 06-0209V

73. Tamara Charles on behalf of Jeron Charles, Brooklyn, New York, Court of Federal Claims Number 06-0212V

74. Jaynna and Eric Moxley on behalf of Mary Madison Moxley, Cabot, Arkansas, Court of Federal Claims Number 06-0213V

75. Carina Dewitt-Lord and Richard Lord on behalf of Zachary Dylan Lord, Philadelphia, Pennsylvania, Court of Federal Claims Number 06-0215V

76. Lynne Paumier, Downington, Pennsylvania, Court of Federal Claims Number 06-0220V

77. Hilmi and Samar Amar on behalf of Rushia Amar, Arlington, Texas, Court of Federal Claims Number 06-0221V

78. Parivash and Saeid Mojabi on behalf of Ryan Mojabi, San Jose, California, Court of Federal Claims Number 06-0227V

79. Penny and Richard Majewski on behalf of Zachary Adam Majewski, Somers Point, New Jersey, Court of Federal Claims Number 06-0229V

80. Diane and Samuel Yellis on behalf of Sophie Yellis, Lake Success, New York, Court of Federal Claims Number 06-0234V

81. Gayle Delong and Jonathan Rose on behalf of Flora Rose, Morristown, New Jersey, Court of Federal Claims Number 06-0235V

82. Lori and Kevin Champagne on behalf of Jared Champagne, Baldwinsville, New York, Court of Federal Claims Number 06-0248V

83. Adrian Green and Nathaniel Armstrong, Jr. on behalf of Nijieh Green, Philadelphia, Pennsylvania, Court of Federal Claims Number 06-0249V

84. Geetha Srinivasarao and Cholanayakanahalli Vinayak on behalf of Praveen Vinayak, Washington, D.C., Court of Federal Claims Number 06-0250V

85. Denise and James Walker on behalf of Nicholas John Walker, East Stroudsburg, Pennsylvania, Court of Federal Claims Number 06-0252V

86. Rena DeFelice on behalf of Carson DeFelice, Katy, Texas, Court of Federal Claims Number 06-0253V

87. Heather and Adrian Aschmann on behalf of Adrian Aschmann, Estell Manor, New Jersey, Court of Federal Claims Number 06-0256V

88. Daphne and John Dunstan on behalf of William Dunstan, Philadelphia, Pennsylvania, Court of Federal Claims Number 06-0257V

Dated: May 15, 2006.
Elizabeth M. Duke,
Administrator.

[FR Doc. E6-7665 Filed 5-18-06; 8:45 am]

BILLING CODE 4165-15-P